NATIONAL CREDIT UNION ADMINISTRATION

Submission for OMB Review; Comment Request

AGENCY: National Credit Union Administration (NCUA).

ACTION: Notice.

SUMMARY: The National Credit Union Administration (NCUA) will submit the following information collection request to the Office of Management and Budget (OMB) for review and clearance in accordance with the Paperwork Reduction Act of 1995, on or after the date of publication of this notice.

DATES: Comments should be received on or before June 20, 2019 to be assured of consideration.

ADDRESSES: Send comments regarding the burden estimate, or any other aspect of this information collection, including suggestions for reducing the burden, to (1) Office of Information and Regulatory Affairs, Office of Management and Budget, Attention: Desk Officer for NCUA, New Executive Office Building, Room 10235, Washington, DC 20503, or email at OIRA_Submission@OMB.EOP.gov and (2) NCUA PRA Clearance Officer, 1775 Duke Street, Suite 5080, Alexandria, VA 22314, or email at PRAComments@ncua.gov.

FOR FURTHER INFORMATION CONTACT: Copies of the submission may be obtained by contacting Dawn Wolfgang at (703) 548-2279, emailing PRAComments@ncua.gov, or viewing the entire information collection request at www.reginfo.gov.

SUPPLEMENTARY INFORMATION:

OMB Number: 3133-NEW.

Type of Review: New collection.

Title: Proof of Concept Application for New Charter Organizing Groups.

Abstract: The Credit Union Resources and Expansion (CURE) office of NCUA is responsible for the review and approval of charter applications submitted by organizing groups. CURE is enhancing the application process for organizers to submit their information through an automated system to document the four most critical elements to establish a new charter. The four areas are usually the greatest challenge for organizers to accomplish. The automated system will assist organizing groups in demonstrating that they have thoroughly evaluated the proposed credit union's operations by documenting the most critical elements of a new charter, such as the purpose and core values, field of membership, capital, and subscribers.

The data will be reviewed by NCUA to determine the adequacy of a group's proof of concept and provide guidance as needed. The purpose of this information collection is to identify the level of understanding an organizing group has before they make a formal charter application submission as prescribed by Appendix B to 12 CFR part 701.

Affected Public: Private Sector: Not-for-profit institutions.

Estimated Total Annual Burden Hours: 96.

By Gerard Poliquin, Secretary of the Board, the National Credit Union Administration, on May 16, 2019.
Dated: May 16, 2019.
Dawn D. Wolfgang,
NCUA PRA Clearance Officer.

[FR Doc. 2019-10540 Filed 5-20-19; 8:45 am]

BILLING CODE 7535-01-P